ENVIRONMENTAL PROTECTION AGENCY

40 CFR Part 52

[EPA-R04-OAR-2020-0716; FRL-10023-92-Region 4]

Air Plan Approval; North Carolina; Monitoring: Recordkeeping: Reporting

AGENCY: Environmental Protection Agency (EPA).

ACTION: Proposed rule.

SUMMARY: The Environmental Protection Agency (EPA) is proposing to approve changes to the North Carolina State Implementation Plan (SIP) submitted through the North Carolina Division of Air Quality (NCDAQ) on October 9, 2020. The SIP revision seeks to modify the State's monitoring, recordkeeping, and reporting regulations by adding one definition, adding references to approved testing methods, updating the reference format, and making minor changes to general formatting and language use for clarity purposes. EPA is proposing to approve these changes pursuant to the Clean Air Act (CAA or Act).

DATES: Comments must be received on or before June 21, 2021.

ADDRESSES: Submit your comments, identified by Docket ID No. EPA-R04-OAR-2020-0716 at www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit www2.epa.gov/dockets/commenting-epa-dockets.

FOR FURTHER INFORMATION CONTACT: Sarah LaRocca, Air Regulatory Management Section, Air Planning and Implementation Branch, Air and Radiation Division, U.S. Environmental Protection Agency, Region 4, 61 Forsyth Street SW, Atlanta, Georgia 30303-8960. The telephone number is (404) 562-8994. Ms. LaRocca can also be reached via electronic mail at larocca.sarah@epa.gov.

SUPPLEMENTARY INFORMATION:

I. Background

On October 9, 2020, North Carolina submitted changes to the North Carolina SIP for EPA approval. EPA is proposing to approve changes to the following SIP-approved regulations under 15A North Carolina Administrative Code Subchapter 02D,¹ Section .0600, Monitoring: Recordkeeping: Reporting: Rule .0601, Purpose and Scope; Rule .0602, Definitions; Rule .0604, Exceptions to Monitoring and Reporting Requirements; Rule .0605, General Recordkeeping and Reporting Requirements; and Rule .0606, Sources Covered by Appendix P of 40 CFR part 51.²

¹ In the table of North Carolina regulations federally approved into the SIP at 40 CFR 52.1770(c), 15A NCAC 02D is referred to as “Subchapter 2D Air Pollution Control Requirements.”

² The State submitted the SIP revisions following the readoption of several air regulations, including .0601, .0602, .0604, .0605, and .0606, pursuant to North Carolina's 10-year regulatory readoption process at North Carolina General Statute 150B-21.3A.

II. EPA's Analysis of North Carolina's Submittal

The changes that are the subject of this proposed rulemaking make revisions to monitoring, recordkeeping, and reporting regulations under Subchapter 2D of the North Carolina SIP. Specifically, they revise the SIP by adding one definition, adding references to approved testing methods, updating the reference format, and making minor changes to general formatting and language use for clarity purposes. EPA is proposing to find that the changes do not interfere with any applicable requirement concerning attainment and reasonable further progress, or any other applicable CAA requirement. Detailed descriptions of the changes are below:

1. Rule .0601, Purpose and Scope is revised to make clarifying edits to the rule text in the form of minor wording changes and an update to the format of references.

2. Rule .0602, Definitions is revised to reformat the definition of “Emission standard” and clarify that the term relates to State rules or federal regulations, to add a definition for the term “Good operation and maintenance,” ³ to make minor wording, spelling, and grammatical updates to the rule text, and to update the format of references.

³ This term is defined as follows: “Good operation and maintenance means minimizing air pollutant emissions from air pollution control equipment, reducing equipment malfunctions, and ensuring continued compliance with State rules, federal regulations, and permit requirements.”

3. Rule .0604, Exceptions to Monitoring and Reporting Requirements is revised to make clarifying edits to the rule text regarding monitoring requirements during system malfunctions and to clarify that operation and maintenance practices for monitoring systems may be specified by the manufacturer, federal regulation, rule, or a permit condition. In addition, the revisions include a minor word change and other changes to update the format of references.

4. Rule .0605, General Recordkeeping and Reporting Requirements is revised to make minor updates and minor wording changes to the rule text and to update the format of references.

5. Rule .0606, Sources Covered by Appendix P of 40 CFR part 51 is revised to make minor changes to punctuation and rule text, update the format of references, and clarify how compliance with the sulfur dioxide and nitrogen oxide emissions standards is determined. Specifically, the language is revised to clarify that average hourly values shall be calculated based on a minimum of four data points, with one data point in each of the 15-minute quadrants of the hour, and to clarify that this data requirement does not apply to opacity monitoring, which is based upon six-minute time periods, as stipulated at paragraph .0606(c). In addition, paragraph .0606(f) is revised to clarify that the owner or operator of the source shall conduct a daily zero and span check of a continuous emissions monitoring system.

Lastly, Method 6C and Method 7E of 40 CFR part 60, Appendix A, are being added to paragraphs .0606(i) and (j), respectively, as approved testing methods for determining compliance with the emissions standards for sulfur dioxide and nitrogen oxide, respectively. Additionally, the rule is revised to allow other test methods approved into the SIP at 15A NCAC 02D .2600 via cross-references. The new cross-reference to approved testing methods for sources of sulfur dioxide, which are regulated by Appendix P to Part 51, is to 15A NCAC 02D .2611. The new cross-reference to approved testing methods for sources of nitrogen oxide, which are regulated by Appendix A to Part 60, is to 15A NCAC 02D .2612. As these test methods have previously been approved in 15 NCAC 02D .2600 as valid procedures to determine emissions from stationary sources, EPA has determined the cross-references are appropriate.

EPA has preliminarily determined that the changes to the regulations above provide clarity and appropriate updates to monitoring, recordkeeping, and reporting requirements. These changes are minor and do not relax the regulations. The changes to the SIP do not interfere with any requirement concerning attainment or any other applicable requirement of the Act, and therefore, satisfy CAA section 110(l). For these reasons, EPA is proposing approval of the changes to these regulations.

III. Incorporation by Reference

In this document, EPA is proposing to include in a final EPA rule regulatory text that includes incorporation by reference. In accordance with requirements of 1 CFR 51.5, EPA is proposing to incorporate by reference the following rules in 15A NCAC Subchapter 2D with a state-effective date of November 1, 2019: Rule .0601, Purpose and Scope; Rule .0602, Definitions; Rule .0604, Exceptions to Monitoring and Reporting Requirements; Rule .0605, General Recordkeeping and Reporting Requirements; and Rule .0606, Sources Covered by Appendix P of 40 CFR part 51. The proposed changes add one definition, add references to approved testing methods, update the reference format, and make minor changes to general formatting and language to provide clarity to the monitoring, recordkeeping, and reporting requirements. EPA has made, and will continue to make, these materials generally available through www.regulations.gov and at the EPA Region 4 office (please contact the person identified in the For Further Information Contact section of this preamble for more information).

IV. Proposed Action

EPA is proposing to approve North Carolina's October 9, 2020, SIP revisions, which contain changes to the following regulations under 15A NCAC Subchapter 02D: Rule .0601, Purpose and Scope; Rule .0602, Definitions; Rule .0604, Exceptions to Monitoring and Reporting Requirements; Rule .0605, General Recordkeeping and Reporting Requirements; and Rule .0606, Sources Covered by Appendix P of 40 CFR part 51. The proposed changes are consistent with the CAA.

V. Statutory and Executive Order Reviews

Under the CAA, the Administrator is required to approve a SIP submission that complies with the provisions of the Act and applicable Federal regulations. See 42 U.S.C. 7410(k); 40 CFR 52.02(a). Thus, in reviewing SIP submissions, EPA's role is to approve state choices, provided that they meet the criteria of the CAA. This action merely proposes to approve state law as meeting Federal requirements and does not impose additional requirements beyond those imposed by state law. For that reason, this proposed action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Authority: 42 U.S.C. 7401 et seq.

Dated: May 11, 2021.
John B. Blevins,
Acting Regional Administrator, Region 4.

[FR Doc. 2021-10563 Filed 5-19-21; 8:45 am]

BILLING CODE 6560-50-P